FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 018073N.

Name: American Logistics Intermodal, Inc.

Address: 320 Pine Ave., Suite 503, Long Beach, CA 90802.

Date Revoked: November 18, 2006.

Reason: Failed to maintain a valid bond.

License Number: 016159N.

Name: American Pioneer Shipping L.L.C.

Address: 379 Thornall St., 3rd Floor, Edison, NJ 08837.

Date Revoked: November 23, 2006.

Reason: Failed to maintain a valid bond.

License Number: 019621NF.

Name: American Trans Solutions, LLC.

Address: c/o 2548 Abaco Ave., Miami, FL 33133.

Date Revoked: November 15, 2006.

Reason: Surrendered license voluntarily.

License Number: 015247F.

Name: Amerindias, Inc.

Address: 5220 NW 72nd Ave., Bay 3, Miami, FL 33166.

Date Revoked: November 10, 2006.

Reason: Failed to maintain a valid bond.

License Number: 014868N.

Name: Auto Logistics Solutions, Inc. dba Island Vehicle Transport.

Address: One Harbor Center, Suite 240, Suisun City, CA 94585.

Date Revoked: November 14, 2006.

Reason: Failed to maintain a valid bond.

License Number: 004664N.

Name: Cornerstone Logistics Incorporated.

Address: 1017 Grandview Drive, So. San Francisco, CA 94080.

Date Revoked: November 4, 2006.

Reason: Failed to maintain a valid bond.

License Number: 019635N.

Name: Gammacor, Inc.

Address: 594 Industry Drive, Bldg. 6, Tukwila, WA 98188.

Date Revoked: November 16, 2006.

Reason: Failed to maintain a valid bond.

License Number: 002963F.

Name: George S. Engers dba G.S. Engers & Company.

Address: 7301 NW 41st Street, Suite A, Miami, FL 33166.

Date Revoked: November 13, 2006.

Reason: Failed to maintain a valid bond.

License Number: 000988F.

Name: H.E. Schurig and Co. of Louisiana.

Address: 177 O.K. Ave., Harahan, LA 70123

Date Revoked: November 16, 2006.

Reason: Failed to maintain a valid bond.

License Number: 014503N.

Name: Hana Worldwide Shipping Co., Inc.

Address: 20695 S. Western Ave., Suite 120, Torrance, CA 90501.

Date Revoked: November 27, 2006.

Reason: Surrendered license voluntarily.

License Number: 019154NF.

Name: SNS Shipping, Inc.

Address: 147-04 176th Street, Jamaica, NY 11434.

Date Revoked: November 20, 2006.

Reason: Failed to maintain valid bonds.

License Number: 003172N.

Name: The Interport Company, Inc.

Address: 2300 E. Higgins Road, Suite 209-A, Elk Grove Village, IL 60007.

Date Revoked: November 17, 2006.

Reason: Failed to maintain a valid bond.

License Number: 004585F.

Name: Tradewinds USA, Inc.

Address: 4027 S. Wells, Chicago, IL 60609.

Date Revoked: November 23, 2006.

Reason: Failed to maintain a valid bond.

License Number: 014125N.

Name: Transtainer Corporation dba Transtainer Costa Rica.

Address: 3200 NW 112th Ave., Doral, FL 33176.

Date Revoked: November 24, 2006.

Reason: Failed to maintain a valid bond.

License Number: 003503F.

Name: Wisconsin Export Services, Inc.

Address: P.O. Box 170049, Milwaukee, WI 53217.

Date Revoked: November 27, 2006.

Reason: Surrendered license voluntarily.

Sandra L. Kusumoto,
Director, Bureau of Certification and Licensing.

[FR Doc. E6-20663 Filed 12-5-06; 8:45 am]

BILLING CODE 6730-01-P